DEPARTMENT OF HOUSING AND URBAN DEVELOPMENT

[Docket No. FR-7050-N-60]

30-Day Notice of Proposed Information Collection: Standards for Success Reporting, OMB Control No: 2501-0034

AGENCY: Office of Policy Development and Research, Chief Data Officer, HUD.

ACTION: Notice.

SUMMARY: The proposed information collection requirement described below will be submitted to the Office of Management and Budget (OMB) for review, as required by the Paperwork Reduction Act. The Department is soliciting public comments on the subject proposal.

DATES: Comments Due Date: December 21, 2022.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov. HUD welcomes and is prepared to receive calls from individuals who are deaf or hard of hearing, as well as individuals with speech and communication disabilities. To learn more about how to make an accessible telephone call, please visit https://www.fcc.gov/consumers/guides/telecommunications-relay-service-trs.

FOR FURTHER INFORMATION CONTACT: Anna P. Guido, Reports Management Officer, REE, Department of Housing and Urban Development, 451 7th Street SW, Washington, DC 20410; email her at Anna.P.Guido@hud.gov or telephone 202-402-5535. This is not a toll-free number. Copies of available documents submitted to OMB may be obtained from Ms. Guido.

SUPPLEMENTARY INFORMATION: This notice informs the public that HUD has submitted to OMB a request for approval of the information collection described in Section A. The Federal Register notice that solicited public comment on the information collection for a period of 60 days was published on July 20, 2022 at 87 FR 43283.

A. Overview of Information Collection

Title of Information Collection: Standards for Success Reporting.

OMB Approval Number: 2501-0034.

Type of Request: Revision of a currently approved collection.

Form Number: N/A.

Description of the need for the information and proposed use: This request is for the continued clearance of data collection and reporting requirements to enable the Department of Housing and Urban Development (HUD) Office of the Chief Financial Officer (OCFO) to better assess the effectiveness of discretionary-funded programs included in this information collection request (ICR). The discretionary-funded programs included in this ICR are the Multifamily Housing Service Coordinator Grant Program, the Multifamily Housing Budget-based Service Coordinator Program, and the Resident Opportunity and Self Sufficiency Service Coordinator Grant Program (ROSS).

This proposed collection, titled Standards for Success, has three key tenets which improves data collection and reporting for participating programs. First is the standardization of data collection and reporting requirements across programs which increases data comparability and utility. Second is the ability to report on measurable outcomes and aligning them with higher-level agency objectives. And third is the collection of record-level data, instead of aggregate data. Collecting de-identified data at the level of the service recipient allows for more meaningful analysis, improved management, and the ability to demonstrate the progress and achievements of the funding recipients and the programs. Standards for Success accepts data submission by direct data input through the HUD-funded GrantSolutions online data collection and reporting tool (OLDC) and by data file upload, accommodating file formats in Microsoft Excel or Extensible Markup Language (XML).

Currently across HUD, there are several reporting models in place for its discretionary programs. The reporting models provide information on a wide variety of outputs and outcomes and are based on unique data definitions and outcome measures in program-specific performance and progress reports. In Federal Fiscal Year 2013, nine program offices at HUD used six systems and 15 reporting tools to collect over 700 data elements in support of varied metrics to assess the performance of their funding recipients. The proposed data collection and reporting requirements described in this notice are designed to provide HUD programs a tested alternative to their existing disparate reporting methodologies, forms, systems, and requirements.

The lack of standardized data collection and reporting requirements imposes an increased burden on funding recipients with multiple HUD funding streams. The need for a comprehensive standardized reporting approach is underscored by reviews conducted by external oversight agencies, including the HUD Office of Inspector General (OIG) and the Government Accountability Office (GAO). These oversight agencies have questioned the soundness and comparability of data reported by HUD prior to Standards for Success. To address these issues, HUD is using its statutory and regulatory authority to improve and strengthen performance reporting for its discretionary programs, ultimately working towards a single comprehensive reporting approach.

The Secretary's statutory and regulatory authority to administer housing and urban development programs include provisions allowing for the requirement of performance reporting from funding recipients. This legal authority is codified at 42 U.S.C. 3535(r). The individual privacy of service recipients is of the highest priority. The reporting repository established at HUD to receive data submission from funding recipients will not include any personally identifiable information (PII).

Eligible entities receiving funding by HUD are expected to implement the proposed recordkeeping and reporting requirements with available HUD funds. It is important to note that affected HUD funding recipients only submit a subset of the universe of data elements presented. The participating HUD program offices determine the specific data collection and reporting requirements, which considers the type and level of service provided by the respective HUD program.

The reporting requirements in this proposed information collection better organize the data than participating programs collected in the past, standardize outcomes and performance measures, and allow program offices at HUD to select which data elements are relevant for their respective programs. Documents detailing the data elements are available for review by request from Anna P. Guido (Anna.P.Guido@hud.gov). All information reported to HUD will be submitted electronically. Funding recipients may use existing management information systems provided those systems collect all the required data elements and can be exported for submission to HUD. Funding recipients that sub-award funds to other organizations will need to collect the required information from their sub-recipients.

Information collected and reported will be used by funding recipients and HUD for the following purposes:

• To provide data for program evaluation;

• To provide program and performance information to recipients, general public, Congress, and other stakeholders;

• To continuously improve the quality, effectiveness, and efficiency of discretionary-funded programs;

• To provide management information for use by HUD in program administration and oversight, including the scoring of applications and the monitoring of funding-recipient participation, services, and outcomes; and

• To better measure and analyze performance information to identify successful practices to be replicated and prevent or correct problematic practices and improve outcomes in compliance with the Government Performance and Results Act (GPRA) and the GPRA Modernization Act.

The data collection and reporting requirements may expand to other HUD programs. Program implementation will be determined by the program. HUD will provide technical assistance to funding recipients throughout the implementation.

Information collection | Number of respondents | Frequency of response | Responses per annum | Burden hours per response | Annual burden hours | Hourly cost per response | Annual Cost
HUD Participant Record-Level Report (HUD-PRL) | 5,723 | 104 | 595,192 | 0.33 | 196,413.36 | $20.88 | $4,101,110.96

B. Solicitation of Public Comment

This notice is soliciting comments from members of the public and affected parties concerning the collection of information described in Section A on the following:

(1) Whether the proposed collection of information is necessary for the proper performance of the functions of the agency, including whether the information will have practical utility;

(2) If the information will be processed and used in a timely manner;

(3) The accuracy of the agency's estimate of the burden of the proposed collection of information;

(4) Ways to enhance the quality, utility, and clarity of the information to be collected; and

(5) Ways to minimize the burden of the collection of information on those who are to respond; including through the use of appropriate automated collection techniques or other forms of information technology, e.g., permitting electronic submission of responses. HUD encourages interested parties to submit comment in response to these questions.

C. Authority

Section 3507 of the Paperwork Reduction Act of 1995, 44 U.S.C. chapter 35.

Anna P. Guido,
Department Reports Management Officer, Office of the Chief Data Officer.

[FR Doc. 2022-25261 Filed 11-18-22; 8:45 am]

BILLING CODE 4210-67-P